DEPARTMENT OF JUSTICE

Office of the Attorney General

28 CFR Part 0

[Docket No. OAG 195; AG Order No. 6508-2025]

Transfer of the Functions of the Tax Division to the Civil Division and the Criminal Division

AGENCY: Department of Justice.

ACTION: Final rule.

SUMMARY: This rule amends Part 0 of the Department of Justice's (“Department”) organizational regulations in title 28 of the Code of Federal Regulations to transfer the functions of the Tax Division to the Civil Division and the Criminal Division, as appropriate.

DATES: Effective December 9, 2025.

FOR FURTHER INFORMATION CONTACT:

For the Civil Division: Sarah Welch, Counsel, Civil Division, 950 Pennsylvania Avenue NW, Washington, DC 20530; telephone: (202) 514-2000 (not a toll-free call).

For the Criminal Division: Samuel R. Lyons, Acting Principal Deputy Chief, Tax Section, 1331 F St NW, Washington, DC 20004; telephone: (202) 353-4641 (not a toll-free call).

SUPPLEMENTARY INFORMATION:

I. Summary

On February 11, 2025, President Trump issued Executive Order 14210, Implementing the President's “Department of Government Efficiency” Workforce Optimization Initiative. The President called on Federal agencies to “restore accountability to the American public” by “eliminating waste, bloat, and insularity.” In response to that Executive Order, the Department is working to reorganize its workforce so that it can better serve the American public through more efficient operations. This organizational rule transfers certain functions within the Department to achieve these ends.

II. Regulatory Requirements

In developing this rule, the Department considered numerous statutes and executive orders applicable to the rulemaking process. The Department's analysis of the applicability of those statutes and executive orders to this rule is summarized below.

A. Administrative Procedure Act

This rule concerns agency organization, procedure, and practice; is limited to matters of agency management and personnel; and is not a substantive rule. Therefore, this rule is exempt from the requirements of prior notice and comment and a 30-day delay in the effective date. See 5 U.S.C. 553(a)(2), (b)(A), (d).

B. Executive Order 12866 (Regulatory Planning and Review), Executive Order 13563 (Improving Regulation and Regulatory Review), and Executive Order 14192 (Unleashing Prosperity Through Deregulation)

This final rule is not a significant regulatory action under section 3(f) of Executive Order 12866, as supplemented by Executive Order 13563. This rule is limited to agency organization, management, and personnel as described by Executive Order 12866, section 3(d)(3), and therefore is not a “regulation” or “rule” as defined by that Executive Order. Accordingly, this action has not been reviewed by the Office of Management and Budget. Further, as this rule relates to agency organization, management, or personnel, it is not subject to the requirements of Executive Order 14192.

C. Executive Order 14294 (Overcriminalization of Federal Regulations)

Executive Order 14294 requires agencies promulgating regulations with criminal regulatory offenses potentially subject to criminal enforcement to explicitly describe the conduct subject to criminal enforcement, the authorizing statutes, and the mens rea standard applicable to each element of those offenses. This final rule does not impose a criminal regulatory penalty and is thus exempt from Executive Order 14924.

D. Regulatory Flexibility Act

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. 5 U.S.C. 601.

A Regulatory Flexibility Analysis is not required for this final rule because the Department is not required to publish a general notice of proposed rulemaking for this matter. 5 U.S.C. 603(a).

E. Paperwork Reduction Act

This final rule does not call for a new or revised collection of information under the Paperwork Reduction Act of 1995, 44 U.S.C. 3501-3520.

F. Executive Order 13132 (Federalism)

A rule has federalism implications under Executive Order 13132 if it has a substantial direct effect on the States, on the relationship between the national government and the States, or on the distribution of power and responsibilities among the various levels of government. The Department has analyzed this final rule under that Order and determined that this rule does not have federalism implications.

G. Unfunded Mandates Reform Act of 1995

The Unfunded Mandates Reform Act of 1995, 2 U.S.C. 1531-1538, requires Federal agencies to determine whether a rule, if promulgated, will result in the expenditure by State, local, or Tribal governments, in the aggregate, or by the private sector, of $100 million (adjusted annually for inflation) or more in any one year. 2 U.S.C. 1532(a). This final rule does not require or result in expenditures by any of the above-named entities.

H. Executive Order 12988 (Civil Justice Reform), Plain Language

This final rule meets applicable standards in sections 3(a) and 3(b)(2) of Executive Order 12988.

I. Executive Order 13175 (Consultation and Coordination With Indian Tribal Governments)

This final rule does not have Tribal implications under Executive Order 13175 because it would not have a substantial direct effect on one or more Indian tribes, on the relationship between the Federal Government and Indian tribes, or on the distribution of power and responsibilities between the Federal Government and Indian tribes.

J. Congressional Review Act

This rule relates to agency management, personnel, and organization, and does not substantially affect the rights or obligations of non-agency parties. 5 U.S.C. 804(3)(B), (C). This action is accordingly not a “rule” as that term is used in the Congressional Review Act, see 5 U.S.C. 804(3), and the reporting requirement of 5 U.S.C. 801 does not apply.

List of Subjects in 28 CFR Part 0

Authority delegations (Government agencies), Government employees, Organization and functions (Government agencies).

Accordingly, for the reasons stated in the preamble, the Attorney General is amending part 0 of 28 CFR as follows:

PART 0—ORGANIZATION OF THE DEPARTMENT OF JUSTICE

1. The authority citation for part 0 continues to read as follows:

Authority: 5 U.S.C. 301; 28 U.S.C. 509, 510, 515-519.

§ 0.1 [Amended]

2. In § 0.1, amend table 1 by removing the entry for “Tax Division.”

3. In § 0.45:

a. Revise paragraphs (b) and (d);

b. Remove “except as provided in § 0.70(c)(2),” from paragraph (h);

c. Add paragraph (m).

The revisions and addition read as follows:

§ 0.45 General functions.

* * * * *

(b) Court of claims cases—litigation by and against the United States in the Court of Claims, except cases assigned to the Environment and Natural Resources Division by subpart L of this part.

* * * * *

(d) Fraud cases—civil claims arising from fraud on the Government (other than antitrust and land frauds), including alleged claims under the False Claims Act, the Program Fraud Civil Remedies Act of 1986, the Surplus Property Act of 1944, the Anti-Kickback Act, the Contract Settlement Act of 1944, the Contract Disputes Act of 1978, 19 U.S.C. 1592, and common law fraud.

* * * * *

(m) Civil tax litigation—prosecution and defense in all courts, other than the Tax Court, of civil suits, and the handling of other matters, arising under the internal revenue laws, and litigation resulting from the taxing provisions of other Federal statutes (except civil forfeiture and civil penalty matters arising under laws relating to liquor, narcotics, gambling, and firearms assigned to the Criminal Division by § 0.55(d)); enforcement of tax liens, and mandamus, injunctions, and other special actions or general matters arising in connection with internal revenue matters; defense of actions arising under 28 U.S.C. 2410 whenever the United States is named as a party to an action as the result of the existence of a Federal tax lien, including the defense of other actions arising under 28 U.S.C. 2410, if any, involving the same property whenever a tax-lien action is pending under that section; matters involving the immunity of the Federal Government from State or local taxation (except actions to set aside ad valorem taxes, assessments, special assessments, and tax sales of Federal real property, and matters involving payments in lieu of taxes), as well as State or local taxation involving contractors performing contracts for or on behalf of the United States; and appellate proceedings in connection with civil cases enumerated in this paragraph, including petitions to review decisions of the Tax Court of the United States.

4. In § 0.55, remove the phrase “, and tax fraud cases assigned to the Tax Division by subpart N of this part” in paragraph (b) and add paragraph (w) to read as follows:

§ 0.55 General functions.

* * * * *

(w) All criminal proceedings arising under the internal revenue laws.

5. In § 0.65, revise paragraphs (a)(4)(iii) through (v) to read as follows:

§ 0.65 General functions.

(a) * * *

(4) * * *

(iii) Suits and matters involving the foreclosure of mortgages and other liens held by the United States, the same being specifically assigned to the Civil Division;

(iv) Suits arising under 28 U.S.C. 2410 to quiet title or to foreclose a mortgage or other lien, the same being specifically assigned to the Civil Division;

(v) Matters involving the immunity of the Federal Government from State and local taxation specifically delegated to the Civil Division by § 0.45.

* * * * *

Subpart M [Removed and Reserved]

6. Remove and reserve subpart M, consisting of §§ 0.70 and 0.71.

§ 0.160 Offers [Amended]

7. In § 0.160, remove the word “Tax” and add in its place the word “Civil” in paragraph (b).

Appendix to Subpart Y [Amended]

8. Amend Appendix to subpart Y of part 0 by removing the undesignated heading “Tax Division”, Directive No. 83, and Tax Division Directive No. 139.

9. Amend § 0.175 by revising paragraph (b) to read as follows:

§ 0.175 Judicial and administrative proceedings.

* * * * *

(b) The Assistant Attorneys General or any Deputy Assistant Attorney General of the Antitrust Division, the Civil Division, the Civil Rights Division, and the Environment and Natural Resources Division are authorized to exercise the power and authority vested in the Attorney General by 18 U.S.C. 6003 to approve the application of a U.S. Attorney to a Federal court for an order compelling testimony or the production of information in any proceeding before or ancillary to a court or grand jury of the United States when the subject matter of the case or proceeding is within the cognizance of their respective Divisions: Provided, however, that no approval shall be granted unless the Criminal Division indicates that it has no objection to the proposed grant of immunity.

* * * * *

Dated: December 5, 2025.
Pamela Bondi,
Attorney General.

[FR Doc. 2025-22449 Filed 12-9-25; 8:45 am]

BILLING CODE 4410-12-P; 4410-14-P